DEPARTMENT OF COMMERCE

50 CFR Part 300

National Oceanic and Atmospheric Administration

[Docket No. 030124019-3040-02; I.D. 010703B]

RIN 0648-AQ67

Pacific Halibut Fisheries; Catch Sharing Plan; Correction

AGENCY: National Marine Fisheries Service (NMFS), National Oceanic and Atmospheric Administration (NOAA), Commerce.

ACTION: Final rule; correction.

SUMMARY: This document contains a correction to the final rule published on March 7, 2003, for the Pacific halibut fisheries catch sharing plan.

DATES: Effective April 28, 2003.

FOR FURTHER INFORMATION CONTACT: Jay Ginter, 907-586-7228 or Jamie Goen, 206-526-6140.

SUPPLEMENTARY INFORMATION: The final rule was published in the Federal Register on March 7, 2003 (68 FR 10989). The coordinates approximating the 100-fathom depth contour that were published under Section 27., paragraph (3) contained errors that require correction. The coordinates approximating the 100-fathom line in the Pacific halibut final rule should match the 100-fathom line coordinates in the final rule for the 2003 Pacific Coast groundfish specifications and management measures. However, the coordinates in the Pacific halibut final rule do not match the groundfish final rule because revisions were made to the groundfish final rule during the regulatory process without also revising the Pacific halibut final rule. In addition, a correction to the groundfish final rule citation corrected a transposing error by switching two longitude coordinates that were previously out of order in the 100-fathom line. Therefore, the coordinates are corrected to better reflect the 100-fathom depth contour and to match the coordinates published for the Pacific Coast groundfish fishery (68 FR 11182, March 7, 2003 and corrected at 68 FR 18166, April 15, 2003). The coordinates approximating the 100-fathom depth contour are the western boundary for an area closed to commercial fixed gear (longline and pot/trap gear) fisheries for halibut and groundfish off the Pacific Coast. The closed area off Washington, Oregon and northern California (north of 40°10′ N. lat. to the U.S./Canada border) is intended to protect yelloweye rockfish, an overfished species.

This document corrects the errors and republishes the coordinates.

Corrections

In the rule FR Doc. 03-5171, in the issue of Thursday, March 7, 2003 (68 FR 10994), page 11001, under 27. Area 2A Non-Treaty Commercial Fishery Closed Area, paragraph (3) in column 3 is corrected to read as follows:

(3) Between the U.S./Canada border and 40°10′ N. lat., the RCA is defined along a western, offshore boundary approximating 100 fm (183 m). The 100 fm depth contour used north of 40°10′ N. lat. as a western boundary for the RCA is defined by straight lines connecting all of the following points in the order stated:

(1) 48°15.00′ N. lat., 125°41.00′ W. long.;

(2) 48°14.00′ N. lat., 125°36.00′ W. long.;

(3) 48°09.50′ N. lat., 125°40.50′ W. long.;

(4) 48°08.00′ N. lat., 125°38.00′ W. long.;

(5) 48°05.00′ N. lat., 125°37.25′ W. long.;

(6) 48°02.60′ N. lat., 125°34.70′ W. long.;

(7) 47°59.00′ N. lat., 125°34.00′ W. long.;

(8) 47°57.26′ N. lat., 125°29.82′ W. long.;

(9) 47°59.87′ N. lat., 125°25.81′ W. long.;

(10) 48°01.80′ N. lat., 125°24.53′ W. long.;

(11) 48°02.08′ N. lat., 125°22.98′ W. long.;

(12) 48°02.97′ N. lat., 125°22.89′ W. long.;

(13) 48°04.47′ N. lat., 125°21.75′ W. long.;

(14) 48°06.11′ N. lat., 125°19.33′ W. long.;

(15) 48°07.95′ N. lat., 125°18.55′ W. long.;

(16) 48°09.00′ N. lat., 125°18.00′ W. long.;

(17) 48°11.31′ N. lat., 125°17.55′ W. long.;

(18) 48°14.60′ N. lat., 125°13.46′ W. long.;

(19) 48°16.67′ N. lat., 125°14.34′ W. long.;

(20) 48°18.73′ N. lat., 125°14.41′ W. long.;

(21) 48°19.67′ N. lat., 125°13.70′ W. long.;

(22) 48°19.70′ N. lat., 125°11.13′ W. long.;

(23) 48°22.95′ N. lat., 125°10.79′ W. long.;

(24) 48°21.61′ N. lat., 125°02.54′ W. long.;

(25) 48°23.00′ N. lat., 124°49.34′ W. long.;

(26) 48°17.00′ N. lat., 124°56.50′ W. long.;

(27) 48°06.00′ N. lat., 125°00.00′ W. long.;

(28) 48°04.62′ N. lat., 125°01.73′ W. long.;

(29) 48°04.84′ N. lat., 125°04.03′ W. long.;

(30) 48°06.41′ N. lat., 125°06.51′ W. long.;

(31) 48°06.00′ N. lat., 125°08.00′ W. long.;

(32) 48°07.08′ N. lat., 125°09.34′ W. long.;

(33) 48°07.28′ N. lat., 125°11.14′ W. long.;

(34) 48°03.45′ N. lat., 125°16.66′ W. long.;

(35) 47°59.50′ N. lat., 125°18.88′ W. long.;

(36) 47°58.68′ N. lat., 125°16.19′ W. long.;

(37) 47°56.62′ N. lat., 125°13.50′ W. long.;

(38) 47°53.71′ N. lat., 125°11.96′ W. long.;

(39) 47°51.70′ N. lat., 125°09.38′ W. long.;

(40) 47°49.95′ N. lat., 125°06.07′ W. long.;

(41) 47°49.00′ N. lat., 125°03.00′ W. long.;

(42) 47°46.95′ N. lat., 125°04.00′ W. long.;

(43) 47°46.58′ N. lat., 125°03.15′ W. long.;

(44) 47°44.07′ N. lat., 125°04.28′ W. long.;

(45) 47°43.32′ N. lat., 125°04.41′ W. long.;

(46) 47°40.95′ N. lat., 125°04.14′ W. long.;

(47) 47°39.58′ N. lat., 125°04.97′ W. long.;

(48) 47°36.23′ N. lat., 125°02.77′ W. long.;

(49) 47°34.28′ N. lat., 124°58.66′ W. long.;

(50) 47°32.17′ N. lat., 124°57.77′ W. long.;

(51) 47°30.27′ N. lat., 124°56.16′ W. long.;

(52) 47°30.60′ N. lat., 124°54.80′ W. long.;

(53) 47°29.26′ N. lat., 124°52.21′ W. long.;

(54) 47°28.21′ N. lat., 124°50.65′ W. long.;

(55) 47°27.38′ N. lat., 124°49.34′ W. long.;

(56) 47°25.61′ N. lat., 124°48.26′ W. long.;

(57) 47°23.54′ N. lat., 124°46.42′ W. long.;

(58) 47°20.64′ N. lat., 124°45.91′ W. long.;

(59) 47°17.99′ N. lat., 124°45.59′ W. long.;

(60) 47°18.20′ N. lat., 124°49.12′ W. long.;

(61) 47°15.01′ N. lat., 124°51.09′ W. long.;

(62) 47°12.61′ N. lat., 124°54.89′ W. long.;

(63) 47°08.22′ N. lat., 124°56.53′ W. long.;

(64) 47°08.50′ N. lat., 124°57.74′ W. long.;

(65) 47°01.92′ N. lat., 124°54.95′ W. long.;

(66) 47°01.14′ N. lat., 124°59.35′ W. long.;

(67) 46°58.48′ N. lat., 124°57.81′ W. long.;

(68) 46°56.79′ N. lat., 124°56.03′ W. long.;

(69) 46°58.01′ N. lat., 124°55.09′ W. long.;

(70) 46°55.07′ N. lat., 124°54.14′ W. long.;

(71) 46°59.60′ N. lat., 124°49.79′ W. long.;

(72) 46°58.72′ N. lat., 124°48.78′ W. long.;

(73) 46°54.45′ N. lat., 124°48.36′ W. long.;

(74) 46°53.99′ N. lat., 124°49.95′ W. long.;

(75) 46°54.38′ N. lat., 124°52.73′ W. long.;

(76) 46°52.38′ N. lat., 124°52.02′ W. long.;

(77) 46°48.93′ N. lat., 124°49.17′ W. long.;

(78) 46°41.50′ N. lat., 124°43.00′ W. long.;

(79) 46°34.50′ N. lat., 124°28.50′ W. long.;

(80) 46°29.00′ N. lat., 124°30.00′ W. long.;

(81) 46°20.00′ N. lat., 124°36.50′ W. long.;

(82) 46°18.00′ N. lat., 124°38.00′ W. long.;

(83) 46°17.52′ N. lat., 124°35.35′ W. long.;

(84) 46°17.00′ N. lat., 124°22.50′ W. long.;

(85) 46°15.02′ N. lat., 124°23.77′ W. long.;

(86) 46°12.00′ N. lat., 124°35.00′ W. long.;

(87) 46°10.50′ N. lat., 124°39.00′ W. long.;

(88) 46°08.90′ N. lat., 124°39.11′ W. long.;

(89) 46°00.97′ N. lat., 124°38.56′ W. long.;

(90) 45°57.04′ N. lat., 124°36.42′ W. long.;

(91) 45°54.29′ N. lat., 124°40.02′ W. long.;

(92) 45°47.19′ N. lat., 124°35.58′ W. long.;

(93) 45°41.75′ N. lat., 124°28.32′ W. long.;

(94) 45°34.16′ N. lat., 124°24.23′ W. long.;

(95) 45°27.10′ N. lat., 124°21.74′ W. long.;

(96) 45°17.14′ N. lat., 124°17.85′ W. long.;

(97) 44°59.51′ N. lat., 124°19.34′ W. long.;

(98) 44°49.30′ N. lat., 124°29.97′ W. long.;

(99) 44°45.64′ N. lat., 124°33.89′ W. long.;

(100) 44°33.00′ N. lat., 124°36.88′ W. long.;

(101) 44°28.20′ N. lat., 124°44.72′ W. long.;

(102) 44°13.16′ N. lat., 124°56.36′ W. long.;

(103) 43°56.34′ N. lat., 124°55.74′ W. long.;

(104) 43°56.47′ N. lat., 124°34.61′ W. long.;

(105) 43°42.73′ N. lat., 124°32.41′ W. long.;

(106) 43°30.92′ N. lat., 124°34.43′ W. long.;

(107) 43°17.44′ N. lat., 124°41.16′ W. long.;

(108) 43°07.04′ N. lat., 124°41.25′ W. long.;

(109) 43°03.45′ N. lat., 124°44.36′ W. long.;

(110) 43°03.90′ N. lat., 124°50.81′ W. long.;

(111) 42°55.70′ N. lat., 124°52.79′ W. long.;

(112) 42°54.12′ N. lat., 124°47.36′ W. long.;

(113) 42°43.99′ N. lat., 124°42.38′ W. long.;

(114) 42°38.23′ N. lat., 124°41.25′ W. long.;

(115) 42°33.02′ N. lat., 124°42.38′ W. long.;

(116) 42°31.89′ N. lat., 124°42.04′ W. long.;

(117) 42°30.08′ N. lat., 124°42.67′ W. long.;

(118) 42°28.27′ N. lat., 124°47.08′ W. long.;

(119) 42°25.22′ N. lat., 124°43.51′ W. long.;

(120) 42°19.22′ N. lat., 124°37.92′ W. long.;

(121) 42°16.28′ N. lat., 124°36.11′ W. long.;

(122) 42°05.65′ N. lat., 124°34.92′ W. long.;

(123) 42°00.00′ N. lat., 124°35.27′ W. long.;

(124) 42°00.00′ N. lat., 124°35.26′ W. long.;

(125) 41°47.04′ N. lat., 124°27.64′ W. long.;

(126) 41°32.92′ N. lat., 124°28.79′ W. long.;

(127) 41°24.17′ N. lat., 124°28.46′ W. long.;

(128) 41°10.12′ N. lat., 124°20.50′ W. long.;

(129) 40°51.41′ N. lat., 124°24.38′ W. long.;

(130) 40°43.71′ N. lat., 124°29.89′ W. long.;

(131) 40°40.14′ N. lat., 124°30.90′ W. long.;

(132) 40°37.35′ N. lat., 124°29.05′ W. long.;

(133) 40°34.76′ N. lat., 124°29.82′ W. long.;

(134) 40°36.78′ N. lat., 124°37.06′ W. long.;

(135) 40°32.44′ N. lat., 124°39.58′ W. long.;

(136) 40°24.82′ N. lat., 124°35.12′ W. long.;

(137) 40°23.30′ N. lat., 124°31.60′ W. long.;

(138) 40°23.52′ N. lat., 124°28.78′ W. long.;

(139) 40°22.43′ N. lat., 124°25.00′ W. long.;

(140) 40°21.72′ N. lat., 124°24.94′ W. long.;

(141) 40°21.87′ N. lat., 124°27.96′ W. long.;

(142) 40°21.40′ N. lat., 124°28.74′ W. long.;

(143) 40°19.68′ N. lat., 124°28.49′ W. long.;

(144) 40°17.73′ N. lat., 124°25.43′ W. long.;

(145) 40°18.37′ N. lat., 124°23.35′ W. long.;

(146) 40°15.75′ N. lat., 124°26.05′ W. long.;

(147) 40°16.75′ N. lat., 124°33.71′ W. long.;

(148) 40°16.29′ N. lat., 124°34.36′ W. long.; and

(149) 40°10.00′ N. lat., 124°21.12′ W. long.

Authority: 16 U.S.C. 773-773k.

Dated: April 21, 2003.
Rebecca Lent,
Deputy Assistant Administrator for Regulatory Programs, National Marine Fisheries Service.

[FR Doc. 03-10281 Filed 4-25-03; 8:45 am]

BILLING CODE 3510-22-S